DEPARTMENT OF ENERGY

Federal Energy Regulatory Commission

Combined Notice of Filings #2

September 28, 2010.

Take notice that the Commission received the following electric rate filings:

Docket Numbers: ER10-3075-000.

Applicants: CalPeak Power—Panoche LLC.

Description: CalPeak Power—Panoche LLC submits tariff filing per 35.12: CalPeak Power—Panoche FERC Electric Tariff to be effective 9/28/2010.

Filed Date: 09/28/2010.

Accession Number: 20100928-5198.

Comment Date: 5 p.m. Eastern Time on Tuesday, October 19, 2010.

Docket Numbers: ER10-3076-000.

Applicants: CalPeak Power—Vaca Dixon LLC.

Description: CalPeak Power—Vaca Dixon LLC submits tariff filing per 35.12: CalPeak Power—Vaca Dixon FERC Electric Tariff to be effective 9/28/2010.

Filed Date: 09/28/2010.

Accession Number: 20100928-5204.

Comment Date: 5 p.m. Eastern Time on Tuesday, October 19, 2010.

Docket Numbers: ER10-3077-000.

Applicants: CalPeak Power LLC.

Description: CalPeak Power LLC submits tariff filing per 35.12: CalPeak Power FERC Electric Tariff to be effective 9/28/2010.

Filed Date: 09/28/2010.

Accession Number: 20100928-5207.

Comment Date: 5 p.m. Eastern Time on Tuesday, October 19, 2010.

Docket Numbers: ER10-3078-000.

Applicants: Commonwealth Chesapeake Company LLC.

Description: Commonwealth Chesapeake Company LLC submits tariff filing per 35.12: Commonwealth Chesapeake FERC Electric Tariff to be effective 9/28/2010.

Filed Date: 09/28/2010.

Accession Number: 20100928-5212.

Comment Date: 5 p.m. Eastern Time on Tuesday, October 19, 2010.

Docket Numbers: ER10-3079-000.

Applicants: Tyr Energy LLC.

Description: Tyr Energy LLC submits tariff filing per 35.12: Tyr Energy FERC Electric Tariff to be effective 9/28/2010.

Filed Date: 09/28/2010.

Accession Number: 20100928-5213.

Comment Date: 5 p.m. Eastern Time on Tuesday, October 19, 2010.

Docket Numbers: ER10-3080-000.

Applicants: Benton County Wind Farm LLC.

Description: Benton County Wind Farm LLC submits tariff filing per 35.12: Benton County MBR Baseline to be effective 9/28/2010.

Filed Date: 09/28/2010.

Accession Number: 20100928-5217.

Comment Date: 5 p.m. Eastern Time on Tuesday, October 19, 2010.

Docket Numbers: ER10-3081-000.

Applicants: Equilon Enterprises LLC.

Description: Equilon Enterprises LLC submits tariff filing per 35.12: Equilon Enterprises-Martinez MBR Baseline to be effective 9/28/2010.

Filed Date: 09/28/2010.

Accession Number: 20100928-5218.

Comment Date: 5 p.m. Eastern Time on Tuesday, October 19, 2010.

Docket Numbers: ER10-3082-000.

Applicants: Motiva Enterprises LLC.

Description: Motiva Enterprises LLC submits tariff filing per 35.12: Motiva Enterprises MBR Baseline to be effective 9/28/2010.

Filed Date: 09/28/2010.

Accession Number: 20100928-5219.

Comment Date: 5 p.m. Eastern Time on Tuesday, October 19, 2010.

Docket Numbers: ER10-3083-000.

Applicants: Shell Chemical LP.

Description: Shell Chemical LP submits its Baseline Market-Based Rate Tariff pursuant to Order No. 714, to be effective 9/28/2010.

Filed Date: 09/28/2010.

Accession Number: 20100928-5224.

Comment Date: 5 p.m. Eastern Time on Tuesday, October 19, 2010.

Docket Numbers: ER10-3084-000.

Applicants: Chula Vista Energy Center, LLC.

Description: Chula Vista Energy Center, LLC submits its baseline Market-Based Rate Tariff pursuant to Order No. 714, to be effective 9/28/2010.

Filed Date: 09/28/2010.

Accession Number: 20100928-5225.

Comment Date: 5 p.m. Eastern Time on Tuesday, October 19, 2010.

Docket Numbers: ER10-3085-000.

Applicants: Escondido Energy Center, LLC.

Description: Escondido Energy Center, LLC submits its baseline Market-Based Rate Tariff, to be effective 9/28/2010.

Filed Date: 09/28/2010.

Accession Number: 20100928-5227.

Comment Date: 5 p.m. Eastern Time on Tuesday, October 19, 2010.

Docket Numbers: ER10-3086-000.

Applicants: El Cajon Energy, LLC.

Description: El Cajon Energy, LLC submits tariff filing per 35.12: El Cajon MBR Baseline to be effective 9/28/2010.

Filed Date: 09/28/2010.

Accession Number: 20100928-5228.

Comment Date: 5 p.m. Eastern Time on Tuesday, October 19, 2010.

Docket Numbers: ER10-3087-000.

Applicants: Wellhead Power Panoche, LLC.

Description: Wellhead Power Panoche, LLC submits tariff filing per 35.12: Power Panoche MBR Baseline to be effective 9/28/2010.

Filed Date: 09/28/2010.

Accession Number: 20100928-5234.

Comment Date: 5 p.m. Eastern Time on Tuesday, October 19, 2010.

Docket Numbers: ER10-3088-000.

Applicants: Wellhead Power Gates, LLC.

Description: Wellhead Power Gates, LLC submits tariff filing per 35.12: Power Gates MBR Baseline to be effective 9/28/2010.

Filed Date: 09/28/2010.

Accession Number: 20100928-5240.

Comment Date: 5 p.m. Eastern Time on Tuesday, October 19, 2010.

Docket Numbers: ER10-3089-000.

Applicants: Macquarie Energy LLC.

Description: Macquarie Energy LLC submits tariff filing per 35: Macquarie Energy Revised Reassignment Tariff to be effective 10/1/2010.

Filed Date: 09/28/2010.

Accession Number: 20100928-5248.

Comment Date: 5 p.m. Eastern Time on Tuesday, October 19, 2010.

Docket Numbers: ER10-3090-000.

Applicants: Fresno Cogeneration Partners, L.P.

Description: Fresno Cogeneration Partners, L.P. submits tariff filing per 35.12: Fresno Cogen MBR Baseline to be effective 9/28/2010.

Filed Date: 09/28/2010.

Accession Number: 20100928-5251.

Comment Date: 5 p.m. Eastern Time on Tuesday, October 19, 2010.

Docket Numbers: ER10-3092-000.

Applicants: Solios Power LLC.

Description: Solios Power LLC submits tariff filing per 35.12: Solios Power LLC FERC Electric Tariff No. 1 to be effective 9/28/2010.

Filed Date: 09/28/2010.

Accession Number: 20100928-5253.

Comment Date: 5 p.m. Eastern Time on Tuesday, October 19, 2010.

Docket Numbers: ER10-3093-000.

Applicants: Santa Maria Cogen, Inc.

Description: Santa Maria Cogen, Inc. submits tariff filing per 35.12: Santa Maria Cogen MBR Baseline to be effective 9/28/2010.

Filed Date: 09/28/2010.

Accession Number: 20100928-5254.

Comment Date: 5 p.m. Eastern Time on Tuesday, October 19, 2010.

Docket Numbers: ER10-3094-000.

Applicants: Power Exchange Corporation.

Description: Power Exchange Corporation submits tariff filing per 35.12: Power Exchange MBR Baseline to be effective 9/28/2010.

Filed Date: 09/28/2010.

Accession Number: 20100928-5255.

Comment Date: 5 p.m. Eastern Time on Tuesday, October 19, 2010.

Docket Numbers: ER10-3095-000.

Applicants: Wellhead Power eXchange, LLC.

Description: Wellhead Power eXchange, LLC submits tariff filing per 35.12: Wellhead eXchange MBR Baseline to be effective 9/28/2010.

Filed Date: 09/28/2010.

Accession Number: 20100928-5257.

Comment Date: 5 p.m. Eastern Time on Tuesday, October 19, 2010.

Docket Numbers: ER10-3096-000.

Applicants: Public Service Company of New Mexico.

Description: Public Service Company of New Mexico submits tariff filing per 35.12: WestConnect P-to-P Regional Trans Serv Experiment Tariff to be effective 9/28/2010.

Filed Date: 09/28/2010.

Accession Number: 20100928-5261.

Comment Date: 5 p.m. Eastern Time on Tuesday, October 19, 2010.

Docket Numbers: ER10-3097-000.

Applicants: Bruce Power Inc.

Description: Bruce Power Inc. submits tariff filing per 35.12: Bruce Power Inc. to be effective 9/28/2010.

Filed Date: 09/28/2010.

Accession Number: 20100928-5263.

Comment Date: 5 p.m. Eastern Time on Tuesday, October 19, 2010.

Docket Numbers: ER10-3098-000.

Applicants: The Connecticut Light and Power Company.

Description: The Connecticut Light and Power Company submits tariff filing per 35.13(a)(2)(iii): NUSCO CMEEC 2010 Transmission and Distribution Arrangements to be effective 12/1/2010.

Filed Date: 09/28/2010.

Accession Number: 20100928-5265.

Comment Date: 5 p.m. Eastern Time on Tuesday, October 19, 2010.

Docket Numbers: ER10-3099-000.

Applicants: RC Cape May Holdings, LLC.

Description: RC Cape May Holdings, LLC submits tariff filing per 35.12: Baseline Electronic Tariff Filing to be effective 9/28/2010.

Filed Date: 09/28/2010.

Accession Number: 20100928-5276.

Comment Date: 5 p.m. Eastern Time on Tuesday, October 19, 2010.

Docket Numbers: ER10-3100-000.

Applicants: MPC Generating, LLC.

Description: MPC Generating, LLC submits tariff filing per 35.12: Baseline Filing to be effective 9/28/2010.

Filed Date: 09/28/2010.

Accession Number: 20100928-5286.

Comment Date: 5 p.m. Eastern Time on Tuesday, October 19, 2010.

Docket Numbers: ER10-3101-000.

Applicants: ISO New England Inc.

Description: ISO New England Inc. submits tariff filing per 35.13(a)(2)(iii): NUSCO CMEEC 2010 Transmission and Distribution Arrangements to be effective 12/1/2010.

Filed Date: 09/28/2010.

Accession Number: 20100928-5288.

Comment Date: 5 p.m. Eastern Time on Tuesday, October 19, 2010.

Docket Numbers: ER10-3102-000.

Applicants: Effingham County Power, LLC.

Description: Effingham County Power, LLC submits tariff filing per 35.12: Baseline Filing to be effective 9/28/2010.

Filed Date: 09/28/2010.

Accession Number: 20100928-5289.

Comment Date: 5 p.m. Eastern Time on Tuesday, October 19, 2010.

Docket Numbers: ER10-3103-000.

Applicants: Western Massachusetts Electric Company.

Description: Western Massachusetts Electric Company submits tariff filing per 35.13(a)(2)(iii): NUSCO CMEEC 2010 Transmission and Distribution Arrangements to be effective 12/1/2010.

Filed Date: 09/28/2010.

Accession Number: 20100928-5297.

Comment Date: 5 p.m. Eastern Time on Tuesday, October 19, 2010.

Docket Numbers: ER10-3104-000.

Applicants: Puget Sound Energy, Inc.

Description: Puget Sound Energy, Inc. submits tariff filing per 35.12: Vantage Wind Service Agreement 9/28/2010 to be effective 9/28/2010.

Filed Date: 09/28/2010.

Accession Number: 20100928-5302.

Comment Date: 5 p.m. Eastern Time on Tuesday, October 19, 2010.

Docket Numbers: ER10-3105-000.

Applicants: PJM Interconnection, L.L.C.

Description: PJM Interconnection, L.L.C. submits tariff filing per 35.13(a)(2)(iii: ISA No 2639 among PJM, Keystone Station Owners and Penelec to be effective 9/17/2010.

Filed Date: 09/28/2010.

Accession Number: 20100928-5318.

Comment Date: 5 p.m. Eastern Time on Tuesday, October 19, 2010.

Docket Numbers: ER10-3106-000.

Applicants: Public Service Company of New Hampshire.

Description: Public Service Company of New Hampshire submits tariff filing per 35.13(a)(2)(iii): NUSCO CMEEC 2010 Transmission and Distribution Arrangements to be effective 12/1/2010.

Filed Date: 09/28/2010.

Accession Number: 20100928-5325.

Comment Date: 5 p.m. Eastern Time on Tuesday, October 19, 2010.

Docket Numbers: ER10-3107-000.

Applicants: Walton County Power, LLC.

Description: Walton County Power, LLC submits tariff filing per 35.12: Baseline Filing to be effective 9/28/2010.

Filed Date: 09/28/2010.

Accession Number: 20100928-5330.

Comment Date: 5 p.m. Eastern Time on Tuesday, October 19, 2010.

Docket Numbers: ER10-3108-000.

Applicants: Panda-Brandywine, L.P.

Description: Panda-Brandywine, L.P. submits tariff filing per 35.12: Reactive Power Tariff to be effective 9/28/2010.

Filed Date: 09/28/2010.

Accession Number: 20100928-5332.

Comment Date: 5 p.m. Eastern Time on Tuesday, October 19, 2010.

Docket Numbers: ER10-3109-000.

Applicants: Washington County Power, LLC.

Description: Washington County Power, LLC submits tariff filing per 35.12: Baseline Filing to be effective 9/28/2010.

Filed Date: 09/28/2010.

Accession Number: 20100928-5339.

Comment Date: 5 p.m. Eastern Time on Tuesday, October 19, 2010.

Docket Numbers: ER10-3110-000.

Applicants: Union Power Partners, L.P.

Description: Union Power Partners, L.P. submits tariff filing per 35.12: Union Power FERC Electric Tariff to be effective 9/28/2010.

Filed Date: 09/28/2010.

Accession Number: 20100928-5343.

Comment Date: 5 p.m. Eastern Time on Tuesday, October 19, 2010.

Docket Numbers: ER10-3111-000.

Applicants: Gila River Power, L.P.

Description: Gila River Power, L.P. submits tariff filing per 35.12: Gila River FERC Electric Tariff to be effective 9/28/2010.

Filed Date: 09/28/2010.

Accession Number: 20100928-5344.

Comment Date: 5 p.m. Eastern Time on Tuesday, October 19, 2010.

Docket Numbers: ER10-3112-000.

Applicants: Xcel Energy Services Inc.

Description: Notice of Termination of Various Service Agreements and Rate Schedules filed by Xcel Energy Services Inc. on behalf of the NSP Companies.

Filed Date: 09/28/2010.

Accession Number: 20100928-5348.

Comment Date: 5 p.m. Eastern Time on Tuesday, October 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-25096 Filed 10-5-10; 8:45 am]

BILLING CODE 6717-01-P